POSTAL REGULATORY COMMISSION

[Docket Nos. CP2010-1; Order No. 1517]

Priority Mail Contract

AGENCY: Postal Regulatory Commission.

ACTION: Notice.

SUMMARY: The Commission is noticing a recent Postal Service filing concerning an amendment to Priority Mail Contract 19. This notice informs the public of the filing, invites public comment, and takes other administrative steps.

DATES: Comments are due: November 2, 2012.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filing

III. Ordering Paragraphs

I. Introduction

On October 23, 2012, the Postal Service filed notice that it has agreed to an amendment to the existing Priority Mail Contract 19 subject to this docket.¹ The Postal Service includes one attachment in support of its notice:

¹ Notice of United States Postal Service of Amendment to Priority Mail Contract 19, With Portions Filed Under Seal, October 23, 2012 (Notice).

• Attachment A—a redacted copy of the amendment to the existing Priority Mail Contract 19.

The Postal Service also filed the unredacted amendment under seal. It asserts that the “supporting financial documentation and financial certification initially provided in this docket remain applicable.” It also seeks to incorporate by reference the Application for Non-Public Treatment originally filed in this docket for the protection of customer-identifying information that it has filed under seal.

The amendment requires the customer to manifest pieces for eligible customized pricing under the contract using a separate permit number and use Electronic Verification Systems and Endicia for shipment of such pieces. Id. Attachment A at 1. The Postal Service intends for the amendment to become effective on the day after the date that the Commission completes its review of the notice. Id.

The Postal Service filed certain supporting materials, including the related contract, under seal. Id. at 1.

II. Notice of Filing

Interested persons may submit comments on whether the changes presented in the Postal Service's notice are consistent with the policies of 39 U.S.C. 3632, 3633, or 3642, 39 CFR 3015.5, and 39 CFR part 3020, subpart B. Comments are due no later than November 2, 2012. The public portions of these filings can be accessed via the Commission's Web site (http://www.prc.gov).

The Commission appoints James F. Callow to serve as Public Representative in this docket.

III. Ordering Paragraphs

It is ordered:

1. The Commission shall review the Notice of United States Postal Service of Amendment to Priority Mail Contract 19 with Portions Filed Under Seal, filed on October 23, 2012 in Docket No. CP2010-1.

2. Pursuant to 39 U.S.C. 505, James F. Callow is appointed to serve as an officer of the Commission (Public Representative) to represent the interests of the general public in this proceeding.

3. Comments by interested persons in these proceedings are due no later than November 2, 2012.

4. The Secretary shall arrange for publication of this order in the Federal Register.

By the Commission.
Shoshana M. Grove,
Secretary.

[FR Doc. 2012-26705 Filed 10-30-12; 8:45 am]

BILLING CODE 7710-FW-P